DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona: Yavapai (FEMA Docket No.: B-1917) | City of Cottonwood (18-09-1452P) | The Honorable Tim Elinski, Mayor, City of Cottonwood, 827 North Main Street, Cottonwood, AZ 86326 | Department of Public Works, 1490 West Mingus Avenue, Cottonwood, AZ 86326 | June 27, 2019 | 040096
California:
Santa Barbara (FEMA Docket No.: B-1916) | City of Santa Barbara (18-09-1502P) | Mr. Paul Casey, City of Santa Barbara Administrator, P.O. Box 1990, Santa Barbara, CA 93102 | Community Development Department, Building and Safety Division, 630 Garden Street, Santa Barbara, CA 93101 | June 21, 2019 | 060335
Santa Barbara (FEMA Docket No.: B-1916) | City of Santa Barbara (18-09-1503P) | Mr. Paul Casey, City of Santa Barbara Administrator, P.O. Box 1990, Santa Barbara, CA 93102 | Community Development Department, Building and Safety Division, 630 Garden Street, Santa Barbara, CA 93101 | June 24, 2019 | 060335
Colorado:
Garfield (FEMA Docket No.: B-1924) | Town of Parachute (18-08-1093P) | The Honorable Roy McClung, Mayor, Town of Parachute, 222 Grand Valley Way, Parachute, CO 81635 | Town Hall, 222 Grand Valley Way, Parachute, CO 81635 | June 20, 2019 | 080215
Garfield (FEMA Docket No.: B-1924) | Unincorporated areas of Garfield County (18-08-1093P) | The Honorable John Martin, Chairman, Garfield County Board of Commissioners, 108 8th Street, Suite 101, Glenwood Springs, CO 81601 | Garfield County Administration Building, 108 8th Street, Glenwood Springs, CO 81601 | June 20, 2019 | 080205
Connecticut: New Haven (FEMA Docket No.: B-1928) | Town of Branford (19-01-0264P) | The Honorable James B. Cosgrove, First Selectman, Town of Branford Board of Selectmen, 1019 Main Street, Branford, CT 06405 | Engineering Department, 1019 Main Street, Branford, CT 06405 | June 28, 2019 | 090073
Florida:
Lee (FEMA Docket No.: B-1924) | Unincorporated areas of Lee County (19-04-0850P) | The Honorable Larry Kiker, Chairman, Lee County Board of Commissioners, P.O. Box 398, Fort Myers, FL 33902 | Lee County Building Department, 1500 Monroe Street, Fort Myers, FL 33902 | June 25, 2019 | 125124
Pasco (FEMA Docket No.: B-1917) | Unincorporated areas of Pasco County (18-04-4034P) | Mr. Dan Biles, Administrator, Pasco County, 8731 Citizens Drive, Suite 340, New Port Richey, FL 34654 | Pasco County Dade City Record Center, 38301 McDonald Street, Dade City, FL 33525 | June 27, 2019 | 120230
Mississippi: Lafayette (FEMA Docket No.: B-1924) | City of Oxford (18-04-7495P) | The Honorable Robyn Tannehill, Mayor, City of Oxford, 107 Courthouse Square, Oxford, MS 38655 | City Hall, 107 Courthouse Square, Oxford, MS 38655 | June 19, 2019 | 280094
Montana:
Fallon (FEMA Docket No.: B-1916) | City of Baker (18-08-0474P) | The Honorable JoDee Pratt, Mayor, City of Baker, P.O. Box 1512, Baker, MT 59313 | Planning Department, 10 West Fallon Avenue, Baker, MT 59313 | June 17, 2019 | 300018
Fallon (FEMA Docket No.: B-1916) | Unincorporated areas of Fallon County (18-08-0474P) | The Honorable Steve Baldwin, Chairman, Fallon County Board of Commissioners, P.O. Box 846, Baker, MT 59313 | Fallon County Planning Department, 10 West Fallon Avenue, Baker, MT 59313 | June 17, 2019 | 300149
Pennsylvania: Luzerne (FEMA Docket No.: B-1916) | Township of Salem (18-03-1339P) | The Honorable Steven Fraind, Chairman, Township of Salem Board of Supervisors, 38 Bomboy Lane, Berwick, PA 18603 | Township Hall, 38 Bomboy Lane, Berwick, PA 18603 | June 21, 2019 | 420625
South Dakota:
Lincoln (FEMA Docket No.: B-1924) | Unincorporated areas of Lincoln County (18-08-0685P) | The Honorable David Gillespie, Chairman, Lincoln County Board of Commissioners, 104 North Main Street, Suite 120, Canton, SD 57013 | Lincoln County GIS Department, 104 North Main Street, Canton, SD 57013 | June 21, 2019 | 460277
Pennington (FEMA Docket No.: B-1916) | Unincorporated areas of Pennington County (18-08-0912P) | The Honorable Deb Hadcock, Chair, Pennington County Board of Commissioners, 130 Kansas City Street, Suite 100, Rapid City, SD 57701 | Pennington County Planning Department, 130 Kansas City Street, Suite 200, Rapid City, SD 57701 | June 17, 2019 | 460064
Tennessee:
Hamilton (FEMA Docket No.: B-1924) | Unincorporated areas of Hamilton County (18-04-2279P) | The Honorable Jim Coppinger, Mayor, Hamilton County, 208 Courthouse, 625 Georgia Avenue, Chattanooga, TN 37402 | Hamilton County Engineering Department, 1250 Market Street, Suite 3046, Chattanooga, TN 37402 | June 17, 2019 | 470071
Shelby (FEMA Docket No.: B-1931) | City of Germantown (18-04-6585P) | The Honorable Mike Palazzolo, Mayor, City of Germantown, 1930 South Germantown Road, Germantown, TN 38138 | Economic and Community Development Department, 1920 South Germantown Road, Germantown, TN 38138 | June 28, 2019 | 470353
Texas:
Collin (FEMA Docket No.: B-1924) | City of Lucas (18-06-3533P) | The Honorable Jim Olk, Mayor, City of Lucas, 665 Country Club Road, Lucas, TX 75002 | City Hall, 665 Country Club Road, Lucas, TX 75002 | June 24, 2019 | 481545
Collin (FEMA Docket No.: B-1924) | City of Parker (18-06-3533P) | The Honorable Lee Pettle, Mayor, City of Parker, 5700 East Parker Road, Parker, TX 75002 | City Hall, 5700 East Parker Road, Parker, TX 75002 | June 24, 2019 | 480139
Fort Bend (FEMA Docket No.: B-1943) | Unincorporated areas of Fort Bend County (18-06-2990P) | The Honorable K.P. George, Fort Bend County Judge, 401 Jackson Street, Richmond, TX 77469 | Fort Bend County Engineering Department, 301 Jackson Street, Richmond, TX 77469 | June 20, 2019 | 480228
Harris (FEMA Docket No.: B-1917) | Unincorporated areas of Harris County (18-06-2625P) | The Honorable Lina Hidalgo, Harris County Judge, 1001 Preston Street, Suite 911, Houston, TX 77002 | Harris County Permits Office, 10555 Northwest Freeway, Suite 120, Houston, TX 77092 | June 17, 2019 | 480287
Kendall (FEMA Docket No.: B-1924) | Unincorporated areas of Kendall County (18-06-1938P) | The Honorable Darrel L. Lux, Kendall County Judge, 201 East San Antonio Avenue, Suite 122, Boerne, TX 78006 | Kendall County Engineering Department, 201 East San Antonio Avenue, Suite 101, Boerne, TX 78006 | June 17, 2019 | 480417
Montgomery (FEMA Docket No.: B-1924) | City of Conroe (18-06-0092P) | The Honorable Toby Powell, Mayor, City of Conroe, 300 West Davis Street, Conroe, TX 77301 | Engineering Department, 300 West Davis Street, Conroe, TX 77301 | June 25, 2019 | 480484
Tarrant (FEMA Docket No.: B-1928) | City of Fort Worth (18-06-1342P) | The Honorable Betsy Price, Mayor, City of Fort Worth, 200 Texas Street, Fort Worth, TX 76102 | Transportation and Public Works Department, 200 Texas Street, Fort Worth, TX 76102 | June 17, 2019 | 480596
Virginia:
Loudoun (FEMA Docket No.: B-1916) | Unincorporated areas of Loudoun County (19-03-0018P) | The Honorable Phyllis J. Randall, Chair, Loudoun County Board of Supervisors, P.O. Box 7000, Leesburg, VA 20177 | Loudoun County Department of Building and Development, 1 Harrison Street, SE, 3rd Floor, Leesburg, VA 20175 | June 17, 2019 | 510090
Stafford (FEMA Docket No.: B-1924) | Unincorporated areas of Stafford County (18-03-1812P) | Mr. Thomas C. Foley, Stafford County Administrator, P.O. Box 339, Stafford, VA 22555 | Stafford County Department of Code Administration, 1300 Courthouse Road, Stafford, VA 22554 | June 20, 2019 | 510154
West Virginia:
Greenbriar (FEMA Docket No.: B-1916) | City of White Sulphur Springs (18-03-1881P) | The Honorable Bruce Bowling, Mayor, City of White Sulphur Springs, 589 Main Street West, White Sulphur Springs, WV 24986 | City Hall, 589 Main Street West, White Sulphur Springs, WV 24986 | June 17, 2019 | 540045
Greenbriar (FEMA Docket No.: B-1916) | Unincorporated areas of Greenbrier County (18-03-1881P) | The Honorable Woody Hanna, President, Greenbrier County Commission, 912 Court Street North, Lewisburg, WV 24901 | Greenbrier County Planning Department, 912 Court Street North, Lewisburg, WV 24901 | June 17, 2019 | 540040

[FR Doc. 2019-15341 Filed 7-18-19; 8:45 am]

BILLING CODE 9110-12-P